DEPARTMENT OF THE INTERIOR

Fish and Wildlife Service

[FWS-R9-MB-2011-N097;

[91200-1231-9BPP-L2]

Proposed Information Collection; Conservation Order for Light Geese

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on October 31, 2011. We may not conduct or sponsor and a person is not required to respond to a collection of information unless it displays a currently valid OMB control number.

DATES: To ensure that we are able to consider your comments on this IC, we must receive them by July 25, 2011.

ADDRESSES: Send your comments on the IC to the Service Information Collection Clearance Officer, Fish and Wildlife Service, MS 2042-PDM, 4401 North Fairfax Drive, Arlington, VA 22203 (mail); or INFOCOL@fws.gov (e-mail). Please include 1018-0103 in the subject line of your comments.

FOR FURTHER INFORMATION CONTACT: To request additional information about this IC, contact Hope Grey at INFOCOL@fws.gov (e-mail) or 703-358-2482 (telephone).

SUPPLEMENTARY INFORMATION:

I. Abstract

The number of light geese (lesser snow, greater snow, and Ross' geese) in the midcontinent region has nearly quadrupled during the past several decades due to a decline in adult mortality and an increase in winter survival. We refer to these species and subspecies as light geese because of their light coloration as opposed to dark geese, such as white-fronted or Canada geese. Because of their feeding activity, light geese have become seriously injurious to their habitat as well as to habitat important to other migratory birds. This poses a serious threat to the short- and long-term health and status of some migratory bird populations. We believe that the number of light geese in the midcontinent region has exceeded long-term sustainable levels for their arctic and subarctic breeding habitats and that the populations must be reduced. Title 50 Code of Federal Regulations (CFR) part 21 provides authority for the management of overabundant light geese.

Regulations at 50 CFR 21.60 authorize States and tribes in the midcontinent and Atlantic flyway regions to control light geese within the United States through the use of alternative regulatory strategies. The conservation order authorizes States and tribes to implement population control measures without having to obtain a permit, thus significantly reducing their administrative burden. The conservation order is a streamlined process that affords an efficient and effective population reduction strategy, rather than addressing the issue through our permitting process. Furthermore, this strategy precludes the use of more drastic and costly direct population-reduction measures such as trapping and culling geese. States and tribes participating in the conservation order must:

• Designate participants and inform them of the requirements and conditions of the conservation order. Individual States and tribes determine the method to designate participants.

• Keep records of activities carried out under the authority of the conservation order, including:

(1) Number of persons participating in the conservation order;

(2) Number of days that people participated in the conservation order;

(3) Number of persons who pursued light geese with the aid of a shotgun capable of holding more than three shells;

(4) Number of persons who pursued light geese with the aid of an electronic call;

(5) Number of persons who pursued light geese during the period one-half hour after sunset;

(6) Total number of light geese shot and retrieved during the conservation order;

(7) Number of light geese taken with the aid of an electronic call;

(8) Number of light geese taken with the fourth, fifth, or sixth shotgun shell;

(9) Number of light geese taken during the period one-half hour after sunset; and

(10) Number of light geese shot, but not retrieved.

• Submit an annual report summarizing the activities conducted under the conservation order on or before September 15 of each year. Tribal information can be incorporated in State reports to reduce the number of reports submitted.

II. Data

OMB Control Number: 1018-0103.

Title: Conservation Order for Light Geese, 50 CFR 21.60.

Service Form Number(s): None.

Type of Request: Extension of currently approved collection.

Description of Respondents: State and tribal governments.

Respondent's Obligation: Required to obtain or retain a benefit.

Frequency of Collection: Annually.

Number of Respondents: 39.

Number of Annual Responses: 39.

Completion Time per Response: 74 hours (collect information from respondents, maintain records, and prepare reports).

Total Annual Burden Hours: 2,886.

Estimated Annual Nonhour Burden Cost: $97,500, primarily for overhead costs (materials, printing, postage, etc.)

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: May 19, 2011.
Tina A. Campbell,
Chief, Division of Policy and Directives Management, U.S. Fish and Wildlife Service.

[FR Doc. 2011-12810 Filed 5-23-11; 8:45 am]

BILLING CODE 4310-55-P